DEPARTMENT OF HEALTH AND HUMAN SERVICES

National Institutes of Health

Announcement of Public Hearing and Request for Comment: National Center for Complementary and Alternative Medicine Proposed Name Change

ACTION: Notice.

SUMMARY: The National Institutes of Health (NIH), National Center for Complementary and Alternative Medicine (NCCAM) is seeking feedback from stakeholders and other interested parties on a proposal to change the Center's name to National Center for Research on Complementary and Integrative Health. The public is invited to attend a public hearing and provide comments on the NCCAM Web site.

DATES: NCCAM will hold a public hearing to discuss the proposed name change as part of the meeting of the National Advisory Council on Complementary and Alternative Medicine. This meeting will be held on June 6, 2014 from 10:15-3:50 p.m. in Bethesda, Maryland.

The public is invited to provide comments through the NCCAM Web site at http://nccam.nih.gov from May 16 through June 6, 2014. Comments regarding the proposed name change for NCCAM are best assured of having their full effect if received by June 6, 2014.

ADDRESSES: The meeting will be held on the NIH Campus, Building 31/6C, Conference Room 10, 31 Center Drive, Bethesda, Maryland 20892. For information about access to the NIH campus, please visit http://www.nih.gov/about/visitor/.

FOR FURTHER INFORMATION CONTACT: To request more information, visit the NCCAM Web site at http://nccam.nih.gov, call 1-888-644-6226, or email <nccaminfo@mail.nih.gov>.

SUPPLEMENTARY INFORMATION: The National Center for Complementary and Alternative Medicine (NCCAM) was established in 1998. The mission is to define, through rigorous scientific investigation, the usefulness and safety of complementary and alternative medicine interventions and their roles in improving health and health care. To date, NCCAM's efforts to achieve this mission have been guided by NCCAM's strategic plans, located on the NCCAM Web site at http://nccam.nih.gov/about/plans.

To better reflect the current research, clinical practice, and public use of complementary approaches, NCCAM is proposing its name be changed to National Center for Research on Complementary and Integrative Health. The primary goal in proposing this change is to enhance the Center's effectiveness in addressing its existing legislative mandate as reflected in subsections (a) and (c) of Public Law 105-277, Title VI.

NCCAM is seeking feedback from stakeholders and other interested parties on a proposal to change the Center's name and invites the public to attend the June 6, 2014 public hearing and to submit comments at http://nccam.nih.gov/. Preregistration for the public hearing is not necessary.

Dated: May 15, 2014.
Wendy Liffers,
Executive Officer, National Center for Complementary and Alternative Medicine, National Institutes of Health.

[FR Doc. 2014-11971 Filed 5-23-14; 8:45 am]

BILLING CODE 4140-01-P